DEPARTMENT OF THE TREASURY

Customs Service

19 CFR Parts 24 and 111

RIN 1515-AC81

User Fees

AGENCY: Customs Service, Department of the Treasury

ACTION: Notice of proposed rulemaking.

SUMMARY: This document proposes to amend the Customs Regulations to reflect various legislative amendments to 19 U.S.C. 58c, the Customs user fee statute, including those made by the Miscellaneous Trade and Technical Corrections Act of 1999 and the Tariff Suspension and Trade Act of 2000. The proposed regulations set forth the new fee structure for passengers arriving in the United States aboard commercial vessels and aircraft, provide for application of a fee to ferries in limited circumstances, and clarify how Customs administers certain user fees. Also, minor conforming changes are proposed to the regulations pertaining to customs brokers.

DATES: Written comments must be received on or before May 17, 2002.

ADDRESSES: Written comments may be submitted to and inspected at the Regulations Branch, Office of Regulations and Rulings, U.S. Customs Service, 1300 Pennsylvania Avenue, NW., 3rd Floor, Washington, DC 20229.

FOR FURTHER INFORMATION CONTACT: Concerning user fees applicable to commercial vessel and aircraft passengers under § 24.22(g): Edward Matthews at (202) 927-0552. Concerning the various fee payment and information submission procedures under § 24.22: Robert T. Reiley at (202) 927-1504.

SUPPLEMENTARY INFORMATION:

Background

This document proposes changes concerning user fees to parts 24 and 111 of the Customs Regulations (19 CFR Parts 24 and 111). The changes to Part 24 involve § 24.22 and have several bases: (1) Some changes derive from provisions of the Miscellaneous Trade and Technical Corrections Act of 1999 (Pub. L. 106-36, 113 Stat. 127), signed into law on June 25, 1999; (2) one change is based on a provision of the Tariff Suspension and Trade Act of 2000 (Pub. L. 106-476, 114 Stat. 2101), signed into law on November 9, 2000; (3) some changes are based on other statutory provisions that have not previously been reflected in the regulations; (4) some changes are proposed to bring the regulations up to date with current administrative practices; (5) and one change is a technical correction. The changes to part 111 are intended to clarify administration of the annual user fee and the permit fees for customs brokers.

Proposed Changes Based on the Miscellaneous Trade and Technical Corrections Act of 1999

Section 2418 of the Miscellaneous Trade and Technical Corrections Act of 1999 (the Act) amended section 13031 of the Consolidated Omnibus Budget Reconciliation Act of 1985, codified at 19 U.S.C. 58c (section 58c), which established user fees for certain services performed by the Customs Service. These amendments to section 58c necessitate conforming amendments to the Customs Regulations.

On July 27, 1999, Customs issued a general notice in the Federal Register (64 FR 40648) that announced the statutory changes made by the Act and pointed out that these self-effectuating changes became effective on July 25, 1999. The notice also announced several other related changes affecting Customs administration of user fees. The notice indicated that appropriate amendments to the Customs Regulations would be published in due course. This document, issued as a notice of proposed rulemaking because the proposed changes include some that are not derived from self-effectuating statutory amendments, invites public comment on the proposed changes.

Prior Law

Under section 58c(a), Customs is authorized to collect specific fees charged for certain Customs inspectional services, including, in section 58c(a)(5), fees for passengers arriving in the United States aboard commercial vessels and aircraft. Under section 58c(d), the fees are collected from passengers by the companies that issue the ticket or travel document for transportation into the customs territory of the United States or that provide the actual transportation, and those companies remit the fees to Customs.

Immediately prior to enactment of the Act, section 58c(a)(5)(A) provided for a fee of $6.50 per passenger arriving in the United States aboard a commercial vessel or commercial aircraft from a place outside the customs territory of the United States. However, this fee provision applied only to fiscal years 1994 (effective on January 1, 1994) through 1997. Thus, after fiscal year 1997, the $6.50 fee was no longer in effect.

Immediately prior to enactment of the Act, section 58c(a)(5)(B), applicable to fiscal year 1998 and each following fiscal year, provided for a fee of $5 per passenger arriving in the United States aboard a commercial vessel or commercial aircraft from a place outside the United States other than a place referred to in section 58c(b)(1)(A)(i), that is, Canada, Mexico, a territory or a possession of the United States, or any adjacent island. (Section 24.22(g)(2)(i)(B) of the Customs Regulations (19 CFR 24.22(g)(2)(i)(B)) currently provides that the territories and possessions of the United States include American Samoa, Guam, the Northern Mariana Islands, Puerto Rico, and the U.S. Virgin Islands and that adjacent islands include all of the islands in the Caribbean Sea, the Bahamas, Bermuda, St. Pierre, Miquelon, and the Turks and Caicos Islands. However, this document includes discussion of a proposal to amend the provision concerning this list of adjacent islands.)

The effect of these provisions was to impose a fee structure as follows: (1) A fee of $6.50 on commercial vessel and aircraft passengers arriving from locations outside the customs territory of the United States through September 30, 1997, then, (2) commencing on October 1, 1997, a fee of $5 per commercial vessel and aircraft passenger arriving from a place outside the United States except for a passenger arriving from Canada, Mexico, a U.S. territory or possession, or an adjacent island. Thus, beginning with fiscal year 1998, there was no fee applicable under section 58c(a)(5) for commercial vessel or aircraft passengers arriving from Canada, Mexico, United States territories or possessions, or adjacent islands. (For Puerto Rico, this represented no change because Puerto Rico is part of the customs territory of the United States and thus no fee applied to Puerto Rico under section 58c(a)(5)(A).)

In addition, immediately prior to enactment of the Act, section 58c(b)(1)(A) provided that no fee may be charged under section 58c(a) in the case of the arrival of a passenger whose journey either originated in Canada, Mexico, a United States territory or possession, or an adjacent island or originated in the United States and was limited to Canada, Mexico, a United States territory or possession, or an adjacent island. (This prohibition was suspended during the period from January 1, 1994, through September 30, 1997 (under section 58c(b)(1)(C)).)

New Fee Structure

Paragraph (b)(1) of section 2418 of the Act amended sections 58c(a)(5)(A) and (B) to modify the above-discussed fee structure. The amendment accomplished two things: (1) It continued, in section 58c(a)(5)(A), the $5 fee per passenger arriving in the United States aboard a commercial vessel or aircraft from a place outside the United States other than Canada, Mexico, a United States territory or possession, or an adjacent island; and (2) it imposed, under section 58c(a)(5)(B), a fee of $1.75 per passenger arriving aboard a commercial vessel (not commercial aircraft) from Canada, Mexico, a United States territory or possession, or an adjacent island. Thus, under the amended statute, no fee applies in the case of passengers arriving aboard commercial aircraft from Canada, Mexico, a United States territory or possession, or an adjacent island.

Customs notes that the amendment of section 58c(b)(1)(A) enables collection of the $1.75 per passenger fee of amended section 58c(a)(5)(B). The amendment excepted that fee from the fee exemption provided by section 58c(b)(1)(A) that otherwise precludes application of a fee under section 58c(a)(5) in connection with the arrival of any passenger whose journey originated in Canada, Mexico, a United States territory or possession, or an adjacent island or which originated in the United States and was limited to those named places.

Customs proposes in this document to amend the Customs Regulations to conform to the new fee structure.

Procedures for Payment of the New Fees

Prior to the Act, only one fee applied to covered passengers under section 58c(a)(5), that is, $5 prior to January 1, 1994, $6.50 beginning on January 1, 1994, and $5 beginning on October 1, 1997. With the Act's amendment of section 58c(a)(5), there are now two passenger fees, that is, the $5.00 fee of section 58c(a)(5)(A) where applicable and the $1.75 fee of section 58c(a)(5)(B) where applicable. Thus, since enactment of the Act, Customs must administer and account for two fees rather than one. This new fee structure requires amendment of the Customs Regulations to conform the regulatory procedures to the new fee structure.

Under the current Customs Regulations, it is the responsibility of the carriers, travel agents, tour wholesalers, or other parties issuing tickets or travel documents to collect the fee from all passengers who are subject to the fee (19 CFR 24.22(g)(3)). These parties must make payment of the collected fees to Customs no later than 31 days after the close of the calendar quarter in which the fees were required to be collected from the passengers (19 CFR 24.22(g)(4)). The regulation also provides (in § 24.22(g)(4)) that the quarterly fee payment must be accompanied by a statement that includes the name, address, and taxpayer identification number of the party remitting the payment and the calendar quarter covered by the payment.

This document proposes to amend § 24.22(g)(3) (redesignated in the proposed regulation as § 24.22(g)(4)) to make clear that the party responsible for collecting the fee must collect a fee when an infant travels without a ticket or travel document. This follows Customs consistent practice of treating infants as passengers for purposes of the passenger fees. In this regard, Customs proposes to clarify this by adding to § 24.22(g)(1) a definition of the term “passenger” making it clear that it includes infants even if the carrier does not charge for their transportation and even if the infant is carried by another passenger rather than occupying a seat.

The document also proposes to amend § 24.22(g)(4) (redesignated as § 24.22(g)(5)) to require the following additional information in the statement: The total number of tickets for which fees were required to be collected, including the total number of infants traveling without a ticket or travel document for which fees were required to be collected; the total amount of fees collected and remitted; with respect to vessel fees, the total number of tickets and non-ticketed infants for which fees were required to be collected and the total amount of fees collected; and a breakdown of vessel fees collected and remitted under section 58c(a)(5)(A) (the $5 per passenger fee) and section 58c(a)(5)(B) (the $1.75 per passenger fee). This additional information is necessary to enable Customs to properly account for the fees now provided for under section 58c(a)(5).

The Tariff Suspension and Trade Act of 2000

A recent amendment to section 58c was made by section 1457 of the Tariff Suspension and Trade Act of 2000. Under section 1457, section 58c(b)(1)(A)(iii) was amended to provide an exception to the fee limitation relative to ferries. Prior to this amendment, ferries were excepted from application of the fees under section 58c(a). With this self-effectuating amendment (effective on November 24, 2000), ferries whose operations began on or after August 1, 1999, and who operate south of 27 degrees latitude and east of 89 degrees longitude are now subject to the commercial vessel fee of section 58c(a)(1) (19 CFR 24.22(b)(1)) (provided the ferry is of 100 net tons or more) and the $1.75 commercial vessel passenger fee of section 58c(a)(5)(B) (proposed paragraph (g)(1)(ii) of 19 CFR 24.22). (Customs notes that the definition of “ferry” excludes vessels that provide transportation between places that are more than 300 miles apart. This requirement necessarily means that the $1.75 commercial vessel passenger fee would be applicable because a ferry operating within the specified coordinates will arrive in the United States from a place that qualifies as an adjacent island under paragraph (g)(1)(iii) of this section. See the definition of “ferry” in 19 U.S.C. 58c(c)(1) and 19 CFR 24.22(a)(4).) This amendment necessitates conforming amendments to §§ 24.22(b)(4)(iv) and 24.22(g)(1) of the Customs Regulations.

Proposed Changes Based on Other Statutory Provisions

This document also proposes to include provisions in § 24.22(g) to cover the fee exemption provision set forth in section 58c(b)(1)(A)(iv) and the “one-time only fee” set forth in section 58c(b)(4)(B). These two statutory provisions are not reflected in the current regulation.

The fee exemption provision under section 58c(b)(1)(A)(iv) provides that no fee under section 58c(a)(5) applies to passengers arriving aboard commercial vessels traveling only between ports that are within the customs territory of the United States. The one-time only fee provision of section 58c(b)(4)(B) applies where a fee under section 58c(a)(5) is applicable to passengers arriving aboard a commercial vessel and the voyage is a single voyage involving two or more United States ports (in other words, the vessel proceeds coastwise to one or more United States ports after its initial arrival from a place outside the United States). This provision ensures that in the described situation, the applicable fee is charged only once for each passenger.

Finally, under section 58c(b)(1)(A)(i)(I)(dd), the term “adjacent islands” is given meaning by reference to the definition of that term found at 8 U.S.C. 1101(b)(5). The adjacent islands are set forth under § 24.22(g)(2)(i)(B) of the current Customs Regulations. The document proposes to amend the regulation in order to bring it up to date with the language of 8 U.S.C. 1101(b)(5). (See proposed § 24.22(g)(1)(iii).) All islands found in the current regulation are covered in the proposed regulation (although not explicitly in every case).

Proposed Changes Regarding Administrative Practices

Section 24.22(b)(3) of the Customs Regulations concerns the procedure for prepayment of the fee for the arrival of commercial vessels (that is, vessels of 100 net tons or more as well as barges and other bulk carriers arriving from Canada or Mexico). Section 24.22(c)(3) concerns the procedure for prepayment of the fee for the arrival of commercial vehicles. Section 24.22(d) concerns the fee for the arrival of railroad cars and includes, in paragraph (d)(3), procedures for prepayment of the fee and, in paragraph (d)(4)(ii), procedures for monthly statement filing and fee remittance. In § 24.22(e), which concerns the fee for the arrival of private vessels and private aircraft, paragraph (e)(1) covers payment of the fee at the time of arrival and paragraph (e)(2) covers the procedure for prepayment of the fee. Section 22.24(g)(4) covers the procedure for payment of fees for the arrival of passengers aboard commercial vessels and commercial aircraft. Section 24.22(h) concerns the annual customs broker permit fee. Section 24.22(i) concerns procedures for remittance of, and for submitting information relative to, the fees provided for under § 24.22.

This document proposes to amend the above regulatory provisions to reflect current fee payment and other practices, including clarification of the proper addresses for the mailing of payments, requirements for the user fee decal, and use of electronic and credit card payment options.

Technical Correction

Upon routine review of the Part 24 texts, Customs discovered erroneous references to § 142.13(c) (19 CFR 142.13(c)) in paragraphs (a), (c)(2), and (d) of § 24.25, which pertains to statement processing and automated clearinghouse procedures. Section 142.13(c) is currently reserved, and the reference in the above paragraphs of § 24.25 should instead be to § 142.13(b), which pertains to special classes of merchandise.

This document proposes to correct these erroneous references.

Conforming Changes to Part 111

Part 111 of the Customs Regulations (19 CFR part 111) pertains to customs brokers and includes, in §§ 111.19 and 111.96, references to the payment of the annual customs broker permit user fee referred to in § 24.22(h). This document proposes amendments to §§ 111.19 and 111.96 to conform to the change to § 24.22(h) referred to above and to clarify the payment procedure in connection with a national permit application.

Comments

Before adopting these proposed amendments as a final rule, consideration will be given to any written comments timely submitted to Customs including comments on the clarity of the proposed rule and how it may be made easier to understand. Comments submitted will be available for public inspection in accordance with the Freedom of Information Act (5 U.S.C. 552), § 1.4 of the Treasury Department Regulations (31 CFR 1.4), and § 103.11(b) of the Customs Regulations (19 CFR 103.11(b)) on regular business days between the hours of 9 a.m. and 4:30 p.m. at the Regulations Branch, Office of Regulations and Rulings, U.S. Customs Service, 1300 Pennsylvania Avenue, NW, 3rd Floor, Washington, DC.

Executive Order 12866

This document does not meet the criteria for a “significant regulatory action” as specified in E.O. 12866.

Regulatory Flexibility Act

Based on the supplementary information set forth above and because the proposed amendments to the Customs Regulations concern collection of fees that are mandated by statute, it is certified, pursuant to the provisions of the Regulatory Flexibility Act (5 U.S.C. 601 et seq.), that the proposed amendments, if adopted, will not have a significant economic impact on a substantial number of small entities. Accordingly, the proposed amendments are not subject to the regulatory analysis or other requirements of 5 U.S.C. 603 and 604.

Paperwork Reduction Act

The collections of information contained in § 24.22 have previously been approved by the Office of Management and Budget (OMB) under OMB control number 1515-0154 (User Fees). This notice of proposed rulemaking (NPRM) contains additional collections of information that have been submitted to OMB for review in accordance with the Paperwork Reduction Act of 1995 (44 U.S.C. 3507). An agency may not conduct or sponsor, and a person is not required to respond to, a collection of information that lacks a valid control number.

The additional collections of information in these proposed regulations are at § 24.22(g)(5)(iv) and (v), pertaining to information required in the statement that must accompany a quarterly fee payment relative to passenger fees. This information is necessary to allow Customs to track and account for the two passenger fees mandated in the Miscellaneous Trade and Technical Corrections Act of 1999. The estimated burden to the public resulting from the additional collections is as follows:

Estimated total annual reporting and/or recordkeeping burden: 100 hrs.

Estimated average annual burden per respondent/recordkeeper: 4 hrs.

Estimated number of respondents and/or recordkeepers: 25.

Estimated annual frequency of responses: 4.

Comments on the additional collections of information should be sent to the OMB, Attention: Desk Officer for the Department of the Treasury, Office of Information and Regulatory Affairs, Washington, DC 20503. A copy should also be sent to Customs at the address set forth in the “Address” section of this document.

Comments are invited on:

(a) Whether the additional collection of information is necessary for the proper performance of the functions of the agency, including whether the information shall have practical utility;

(b) The accuracy of the agency's estimate of the additional information collection burden;

(c) Ways to enhance the quality, utility, and clarity of the additional information to be collected;

(d) Ways to minimize the additional information collection burden on respondents, including through the use of automated collection techniques or other forms of information technology; and

(e) Estimates of capital or startup costs and costs of operations, maintenance, and purchase of services to provide the additional information.

Drafting Information

The principal author of this document was Bill Conrad, Office of Regulations and Rulings, U.S. Customs Service. Other personnel contributed in its development.

List of Subjects

19 CFR Part 24

Accounting, Claims, Customs duties and inspection, Fees, Financial and accounting procedures, Imports, Taxes, User fees.

19 CFR Part 111

Administrative practice and procedure, Brokers, Customs duties and inspection, Imports, Licensing.

Proposed Amendments to the Regulations

For the reasons stated in the preamble, parts 24 and 111 of the Customs Regulations (19 CFR parts 24 and 111) are proposed to be amended as follows:

PART 24—CUSTOMS FINANCIAL AND ACCOUNTING PROCEDURE

1. The authority citation for part 24 continues to read in part as follows:

Authority: 5 U.S.C. 301; 19 U.S.C. 58a-58c, 66, 1202 (General Note 23, Harmonized Tariff Schedule of the United States), 1505, 1624; 26 U.S.C. 4461, 4462; 31 U.S.C. 9701.

* * * * *

2. It is proposed to amend § 24.22 by:

a. Revising paragraphs (b)(3), (b)(4)(iv), and (c)(3);

b. In paragraph (d), revising the second sentence of paragraph (d)(3), adding a new sentence at the end of paragraph (d)(4)(ii), and, in the last sentence of paragraph (d)(5), removing the words “, in accordance with the procedures set forth in paragraph (i)(2) of this section”

c. Revising paragraphs (e)(1) and (e)(2);

d. In paragraph (g), revising paragraph (g)(1), redesignating paragraphs (g)(2) through (g)(7) as (g)(3) through (g)(8), adding new paragraph (g)(2), revising newly redesignated paragraphs (g)(3), (g)(4), and (g)(5), and, at the end of the last sentence of newly redesignated paragraph (g)(7), removing the words “, in accordance with the procedures set forth in paragraph (i)(2) of this section” and

e. Revising paragraphs (h) and (i).

The revisions read as follows:

§ 24.22 Fees for certain services.

* * * * *

(b) * * *

(3) Prepayment. The vessel operator, owner, or agent may at any time prepay the maximum calendar year amount specified in paragraph (b)(1)(ii) or (b)(2)(ii) of this section, or any remaining portion of that amount if individual arrival fees have already been paid on the vessel for that calendar year. Prepayment must be made at a Customs port office. When prepayment is for the remaining portion of a maximum calendar year amount, certified copies of receipts (Customs Form 368 or 368A) issued for individual arrival fee payments during the calendar year must accompany the payment.

(4) Exceptions. * * *

(iv) A ferry except for a ferry that began operations on or after August 1, 1999, and operates south of 27 degrees latitude and east of 89 degrees longitude.

(c) * * *

(3) Prepayment. The owner, agent, or person in charge of a commercial vehicle may at any time prepay a fee of $100 to cover all arrivals of that vehicle during a calendar year or any remaining portion of a calendar year. Prepayment must be made in accordance with the procedures set forth in this paragraph and paragraph (i) of this section. Prepayment may be sent by mail, with a properly completed Customs Form 339, Annual User Fee Decal Request, to the following address: U.S. Customs Service, Decal Program Administrator, PO Box 382030, Pittsburgh, PA 15250-8030. Alternatively, the decal request and prepayment by credit card may be made via the Internet through the “Traveler Information” links at Customs website (http://www.customs.gov). A third option, prepayment at the port, is subject to the port director's discretion to maintain user fee decal inventories. Once the prepayment has been made under this paragraph, a decal will be issued to be permanently affixed by adhesive to the lower left hand corner of the vehicle windshield or on the left wing window, and otherwise in accordance with the accompanying instructions, to show that the vehicle is exempt from payment of the fee for individual arrivals during the applicable calendar year or any remaining portion of that year.

(d) * * *

(3) Prepayment. * * * The prepayment, accompanied by a letter setting forth the railroad car number(s) covered by the payment, the calendar year to which the payment applies, a return address, and any additional information required under paragraph (i) of this section, shall be mailed to: U.S. Customs Service, National Finance Center, Collections Section, PO Box 68907, Indianapolis, IN 46268 (or, if for overnight delivery, to: the same addressee at 6026 Lakeside Blvd., Indianapolis, IN 46278).

(4) Statement filing and payment procedures. * * *

(ii) * * * Payment must be made in accordance with this paragraph and paragraph (i) of this section and must be sent by mail to the following address: U.S. Customs Service, National Finance Center, Collections Section, PO Box 68907, Indianapolis, IN 46268 (or, if for overnight delivery, to: the same addressee at 6026 Lakeside Blvd., Indianapolis, IN 46278).

* * * * *

(e) Fee for arrival of a private vessel or private aircraft.

(1) Fee. Except as provided in paragraph (e)(3) of this section, the master or other person in charge of a private vessel or private aircraft must, upon first arrival in any calendar year, proceed to Customs and tender the sum of $25 to cover services provided in connection with all arrivals of that vessel or aircraft during that calendar year. A properly completed Customs Form 339, Annual User Fee Decal Request, must accompany the payment. Upon payment of the annual fee, a decal will be issued to be permanently affixed by adhesive to the vessel or aircraft, and otherwise in accordance with accompanying instructions, as evidence that the fee has been paid. Except in the case of private aircraft, and aircraft landing at user fee airports authorized under 19 U.S.C. 58b, all overtime charges provided for in this part remain payable notwithstanding payment of the fee specified in this paragraph.

(2) Prepayment. A private vessel or private aircraft owner or operator may, at any time during the calendar year, prepay the $25 annual fee specified in paragraph (e)(1) of this section. Prepayment must be made in accordance with the procedures set forth in this paragraph and paragraph (i) of this section. Prepayment may be sent by mail, along with a properly completed Customs Form 339, Annual User Fee Decal Request, to the following address: U.S. Customs Service, Decal Program Administrator, PO Box 382030, Pittsburgh, PA 15250-8030. Alternatively, the decal request and prepayment by credit card may be made via the Internet through the “Traveler Information” links at Customs website (http://www.customs.gov). A third option, prepayment at the port, is subject to the port director's discretion to maintain user fee decal inventories.

* * * * *

(g) Fees for arrival of passengers aboard commercial vessels and commercial aircraft.

(1) Fees. (i) Subject to paragraphs (g)(1)(ii) and (g)(3) of this section, a fee of $5 must be collected and remitted to Customs for services provided in connection with the arrival of each passenger aboard a commercial vessel or commercial aircraft from a place outside the United States, other than Canada, Mexico, one of the territories and possessions of the United States, or one of the adjacent islands, in either of the following circumstances:

(A) When the journey of the arriving passenger originates in a place outside the United States other than Canada, Mexico, one of the territories or possessions of the United States, or one of the adjacent islands; or

(B) When the journey of the arriving passenger originates in the United States and is not limited to Canada, Mexico, territories and possessions of the United States, and adjacent islands.

(ii) Subject to paragraph (g)(3) of this section, a fee of $1.75 must be collected and remitted to Customs for services provided in connection with the arrival of each passenger aboard a commercial vessel from Canada, Mexico, one of the territories and possessions of the United States, or one of the adjacent islands, regardless of whether the journey of the arriving passenger originates in a place outside the United States or in the United States.

(iii) For purposes of this paragraph (g), the term “territories and possessions of the United States” includes American Samoa, Guam, the Northern Mariana Islands, Puerto Rico, and the U.S. Virgin Islands, and the term “adjacent islands” includes Saint Pierre, Miquelon, Cuba, the Dominican Republic, Haiti, Bermuda, the Bahamas, Barbados, Jamaica, the Windward and Leeward Islands, Trinidad, Martinique, and other British, French, and Netherlands territory or possessions in or bordering on the Caribbean Sea.

(iv) For purposes of this paragraph (g), a journey, which may encompass multiple destinations and more than one mode of transportation, will be deemed to originate in the location where the person's travel begins under cover of a transaction which includes the issuance of a ticket or travel document for transportation into the customs territory of the United States.

(v) For purposes of this paragraph (g), the term passenger means a natural person for whom transportation is provided and includes an infant whether a separate ticket or travel document is issued for the infant or the infant occupies a seat or is held or carried by another passenger.

(vi) For purposes of paragraph (g)(1)(ii) of this section, the term “commercial vessel” includes any ferry that began operations on or after August 1, 1999, and operates south of 27 degrees latitude and east of 89 degrees longitude.

(vii) In the case of a commercial vessel making a single voyage involving two or more United States ports, the applicable fee prescribed under paragraph (g)(1)(i) or (g)(1)(ii) of this section is required to be charged only one time for each passenger.

(2) Fee chart. The chart set forth below outlines the application of the fees specified in paragraphs (g)(1)(i) and (ii) of this section with reference to the place where the passenger's journey originates and with reference to the place from which the passenger arrives in the United States (that is, the last stop on the journey prior to arrival in the United States). In the chart:

(i) SL stands for “Specified Location” and means Canada, Mexico, any territories and possessions of the United States, and any adjacent islands;

(ii) The single asterisk (*) means that the journey originating in the United States is limited to travel to one or more Specified Locations;

(iii) The double asterisk (**) means that the journey originating in the United States includes travel to at least one place other than a Specified Location; and

(iv) N/A indicates that the facts presented in the chart preclude application of the fee.

Place where journey originates (see (g)(1)(iv)): | Fee status for arrival from SL:: Vessel | Fee status for arrival from SL:: Aircraft | Fee status for arrival from other than SL:: Vessel | Fee status for arrival from other than SL:: Aircraft
SL | $1.75 | (¹) | (¹) | (¹)
Other than SL or U.S. | $1.75 | (¹) | $5 | $5.
U.S.* | $1.75 | (¹) | N/A | N/A.
U.S.** | $1.75 | (¹) | $5 | $5.
¹ No fee.

(3) Exceptions. The fees specified in paragraph (g)(1) of this section will not apply to the following categories of arriving passengers:

(i) Crew members and persons directly connected with the operation, navigation, ownership or business of the vessel or aircraft, provided that the crew member or other person is traveling for an official business purpose and not for pleasure;

(ii) Diplomats and other persons in possession of a visa issued by the United States Department of State in class A-1, A-2, C-2, C-3, G-1 through G-4, or NATO 1-6;

(iii) Persons arriving as passengers on any aircraft used exclusively in the governmental service of the United States or a foreign government, including any agency or political subdivision of the United States or foreign government, so long as the aircraft is not carrying persons or merchandise for commercial purposes. Passengers on commercial aircraft under contract to the U.S. Department of Defense are exempted if they have been precleared abroad under the joint DOD/Customs Military Inspection Program;

(iv) Persons arriving on an aircraft due to an emergency or forced landing when the original destination of the aircraft was a foreign airport;

(v) Persons who are in transit to a destination outside the United States and for whom Customs inspectional services are not provided;

(vi) Persons departing from and returning to the same United States port as passengers on board the same vessel without having touched a foreign port or place; and

(vii) Persons arriving as passengers on board a commercial vessel traveling only between ports that are within the customs territory of the United States.

(4) Fee collection procedures. (i) Each air or sea carrier, travel agent, tour wholesaler, or other party issuing a ticket or travel document for transportation into the customs territory of the United States is responsible for collecting from the passenger the applicable fee specified in paragraph (g)(1) of this section, including the fee applicable to any infant traveling without a separate ticket or travel document. The fee must be separately identified with a notation “Federal inspection fees” on the ticket or travel document issued to the passenger to indicate that the required fee has been collected. A fee relative to an infant traveling without a ticket or travel document may be identified instead with the notation on a receipt or other document issued for that purpose or to record the infant's travel. If the ticket or travel document, or a receipt or other document issued relative to an infant traveling without a ticket or travel document, is not so marked and was issued in a foreign country, the fee must be collected by the departing carrier upon departure of the passenger from the United States. If the fee is collected at the time of departure from the United States, the carrier making the collection must issue a receipt to the passenger. U.S.-based tour wholesalers who contract for passenger space and issue non-carrier tickets or travel documents must collect the fee in the same manner as a carrier.

(ii) Collection of the fee under paragraph (g)(1)(i) of this section will include the following circumstances:

(A) When a through ticket or travel document is issued covering (or a receipt or other document issued for an infant traveling without a ticket or travel document indicates that the infant's journey is covering) a journey into the customs territory of the United States which originates in and arrives from a place outside the United States other than Canada, Mexico, one of the territories and possessions of the United States, or an adjacent island;

(B) When a return ticket or travel document is issued (or a receipt or other document that indicates an infant traveling without a return ticket or travel document is issued) in connection with a journey which originates in the United States, includes a stop in a place other than Canada, Mexico, one of the territories and possessions of the United States, or an adjacent island, and the return arrival in the United States is from a place other than one of these specified places; and

(C) When a passenger on a journey in transit through the United States to a foreign destination arrives in the customs territory of the United States from a place other than Canada, Mexico, one of the territories and possessions of the United States, or an adjacent island, is processed by Customs, and the journey does not originate in one of these specified places.

(iii) Collection of the fee under paragraph (g)(1)(ii) of this section will include the following circumstances:

(A) When a through ticket or travel document is issued covering (or a receipt or other document issued for an infant traveling without a ticket or travel document indicates that the infant's journey is covering) a journey into the customs territory of the United States from Canada, Mexico, one of the territories and possessions of the United States, or an adjacent island;

(B) When a return ticket or travel document is issued (or a receipt or other document that indicates an infant traveling without a return ticket or travel document is issued) in connection with a journey which originates in the United States and the return arrival in the United States is from Canada, Mexico, one of the territories and possessions of the United States, or an adjacent island; and

(C) When a passenger on a journey in transit through the United States to a foreign destination arrives in the customs territory of the United States from Canada, Mexico, one of the territories and possessions of the United States, or an adjacent island and is processed by Customs.

(5) Quarterly payment and statement procedures. Payment to Customs of the fees required to be collected under paragraph (g)(1) of this section must be made no later than 31 days after the close of the calendar quarter in which the fees were required to be collected from the passenger. Payment of the fees must be made, in accordance with the procedures set forth in this paragraph and paragraph (i) of this section, by the party required to collect the fee under paragraph (g)(4)(1) of this section. Each quarterly fee payment must be sent to the following address: U.S. Customs Service, National Finance Center, Collections Section, P.O. Box 68907, Indianapolis, IN 46268 (or, if for overnight delivery, to: the same addressee at 6026 Lakeside Blvd., Indianapolis, IN 46278). Overpayments and underpayments may be accounted for by an explanation with, and adjustment of, the next due quarterly payment to Customs. The quarterly payment must be accompanied by a statement that includes the following information:

(i) The name and address of the party remitting payment;

(ii) The taxpayer identification number of the party remitting payment;

(iii) The calendar quarter covered by the payment;

(iv) The total number of tickets for which fees were required to be collected, the total number of infants traveling without a ticket or travel document for which fees were required to be collected, and the total amount of fees collected and remitted; and

(v) For commercial vessel passengers, the total number of tickets for which fees were required to be collected, the total number of infants traveling without a ticket or travel document for which fees were required to be collected, the total amount of fees collected and remitted to Customs, and a separate breakdown of the foregoing information relative to the $5 vessel passenger fee collected and remitted under paragraph (g)(1)(i) of this section and the $1.75 vessel passenger fee collected and remitted under paragraph (g)(1)(ii) of this section.

* * * * *

(h) Annual customs broker permit fee. Customs brokers are subject to an annual fee for each district permit and for a national permit held by an individual, partnership, association, or corporation, as provided in § 111.96(c) of this chapter. The annual fee for each district permit must be submitted to the port through which the broker was granted the permit. The annual fee for a national permit must be submitted to the port through which the broker's license is delivered.

(i) Information submission and fee remittance procedures. In addition to any information specified elsewhere in this section, each payment made by mail must be accompanied by information identifying the person or organization remitting the fee, the type of fee being remitted (for example, railroad car, commercial truck, private vessel), and the time period to which the payment applies. All fee payments required under this section must be in the amounts prescribed and must be made in U.S. currency, or by check or money order payable to the United States Customs Service, in accordance with the provisions of § 24.1 of this part. Authorization for making payments electronically can be obtained by writing to the National Finance Center, Collections Section, 6026 Lakeside Blvd., Indianapolis, IN 46278. Where payment is made at a Customs port, credit cards will be accepted only where the port is equipped to accept credit cards for the type of payment being made. If payment is made by check or money order, the check or money order must be annotated with the appropriate class code. The applicable class codes and payment locations for each fee are as follows:

(1) Fee under paragraph (b)(1) of this section (commercial vessels of 100 net tons or more other than barges and other bulk carriers from Canada or Mexico): class code 491. Payment location: port of arrival for each individual arrival (fee to be collected by Customs at the time of arrival) or prepayment at the port in accordance with paragraph (b)(3) of this section;

(2) Fee under paragraph (b)(2) of this section (barges and other bulk carriers from Canada or Mexico): class code 498. Payment location: port of arrival for each individual arrival (fee to be collected by Customs at the time of arrival) or prepayment at the port in accordance with paragraph (b)(3) of this section;

(3) Fee under paragraph (c) of this section (commercial vehicles): for each individual arrival, class code 492; for prepayment of the maximum calendar year fee, class code 902. Payment location: port of arrival for each individual arrival (fee to be collected by Customs at the time of arrival) or prepayment in accordance with paragraph (c)(3) of this section;

(4) Fee under paragraph (d) of this section (railroad cars): for each individual arrival (under the monthly payment and statement filing procedure), class code 493; for prepayment of the maximum calendar year fee, class code 903. Payment location: for individual arrivals (monthly payment and statement filing), see paragraph (d)(4)(ii) of this section; for prepayment, see paragraph (d)(3) of this section;

(5) Fee under paragraph (e) of this section (private vessels and aircraft): for private vessels, class code 904; for private aircraft, class code 494. Payment location: port of arrival for each individual arrival (fee to be collected by Customs at the time of arrival) or prepayment in accordance with paragraph (e)(2) of this section;

(6) Fee under paragraph (f) of this section (dutiable mail): class code 496. Payment location: see paragraph (f) of this section;

(7) Fee under paragraph (g)(1)(i) of this section (the $5 fee for commercial vessel and commercial aircraft passengers): class code 495. Payment location: see paragraph (g)(5) of this section;

(8) Fee under paragraph (g)(1)(ii) of this section (the $1.75 fee for commercial vessel passengers): class code 484. Payment location: see paragraph (g)(5) of this section; and

(9) Fee under paragraph (h) of this section (customs broker permits): for district permits, class code 497; for national permits, class code 997. Payment location: see paragraph (h) of this section.

* * * * *

3. It is proposed to amend § 24.25 in paragraphs (a), (c)(2), and (d) by removing the reference “§ 142.13(c)” wherever it appears and adding, in its place, the reference “§ 142.13(b)”.

PART 111—CUSTOMS BROKERS

1. The authority citation for Part 111 continues to read in part as follows:

Authority: 19 U.S.C. 66, 1202, (General Note 23, Harmonized Tariff Schedule of the United States), 1624, 1641.

* * * * *

Section 111.96 also issued under 19 U.S.C. 58c; 31 U.S.C. 9701.

2. It is proposed to amend § 111.19 by revising paragraphs (c) and (f)(4) to read as follows:

§ 111.19 Permits.

* * * * *

(c) Fees. Each application for a district permit under paragraph (b) of this section must be accompanied by the $100 and $125 fees specified in §§ 111.96(b) and (c). In the case of an application for a national permit under paragraph (f) of this section, the $100 fee specified in § 111.96(b) and the $125 fee specified in § 111.96(c) must be paid at the port through which the applicant's license was delivered (see § 111.15) prior to submission of the application. The $125 fee specified in § 111.96(c) also must be paid in connection with the issuance of an initial district permit concurrently with the issuance of a license under paragraph (a) of this section.

* * * * *

(f) National permit. * * *

(4) Attach a receipt or other evidence showing that the fees specified in § 111.96(b) and (c) have been paid in accordance with paragraph (c) of this section.

* * * * *

3. It is proposed to amend § 111.96 by revising paragraph (b); and in paragraph (c) by removing from the second sentence the words “or upon filing the application for the” and adding in their place the words “or in connection with the filing of an application for a”; and by removing from the same sentence the reference “§ 111.19(f)(4)” and adding in its place “§ 111.19(c)”. The revision reads as follows:

§ 111.96 Fees.

* * * * *

(b) Permit fee. A fee of $100 must be paid in connection with each permit application under § 111.19 to defray the costs of processing the application, including an application for reinstatement of a permit that was revoked by operation of law or otherwise.

* * * * *

Charles W. Winwood,
Acting Commissioner of Customs.
Approved: March 13, 2002.
Timothy E. Skud,
Acting Deputy Assistant Secretary of the Treasury.

[FR Doc. 02-6369 Filed 3-15-02; 8:45 am]

BILLING CODE 4820-02-P